DEPARTMENT OF LABOR

Mine Safety and Health Administration

Affirmative Decisions on Petitions for Modification Granted in Whole or in Part

AGENCY: Mine Safety and Health Administration (MSHA), Labor.

ACTION: Notice.

SUMMARY: The Federal Mine Safety and Health Act of 1977 and Title 30 of the Code of Federal Regulations govern the application, processing, and disposition of petitions for modification of mandatory safety standards. Any mine operator or representative of miners may petition for an alternative method of complying with an existing safety standard. MSHA reviews the content of each submitted petition, assesses the mine in question, and ultimately issues a decision on the petition. This notice includes a list of petitions for modification that were granted after MSHA's review and investigation, between January 1, 2022, and June 30, 2022.

ADDRESSES: Copies of the final decisions are posted on MSHA's website at https://www.msha.gov/regulations/rulemaking/petitions-modification. The public may inspect the petitions and final decisions in person at MSHA, Office of Standards, Regulations, and Variances, 201 12th Street South, Arlington, Virginia, between 9:00 a.m. and 5:00 p.m. Monday through Friday, except federal holidays. Before visiting MSHA in person, call 202-693-9455 to make an appointment, in keeping with the Department of Labor's COVID-19 policy. Special health precautions may be required.

FOR FURTHER INFORMATION CONTACT: S. Aromie Noe, Director, Office of Standards, Regulations, and Variances at 202-693-9440 (voice), Noe.Song-Ae.A@dol.gov (email), or 202-693-9441 (facsimile). [These are not toll-free numbers.]

SUPPLEMENTARY INFORMATION:

I. Introduction

Under section 101(c) of the Federal Mine Safety and Health Act of 1977, any mine operator or representative of miners may petition to use an alternative approach to comply with a mandatory safety standard. In response, the Secretary of Labor (Secretary) or his or her designee may modify the application of a mandatory safety standard to that mine if the Secretary determines that: (1) An alternative method exists that will guarantee no less protection for the miners affected than that provided by the standard; or (2) the application of the standard will result in a diminution of safety to the affected miners.

MSHA bases the final decision on the petitioner's statements, any comments and information submitted by interested persons, and a field investigation of the conditions at the mine. In some instances, MSHA may approve a petition for modification on the condition that the mine operator complies with other requirements noted in the decision. In other instances, MSHA may deny, dismiss, or revoke a petition for modification. In accordance with 30 CFR 44.5, MSHA publishes every final action granting a petition for modification.

II. Granted Petitions for Modification

On the basis of the findings of MSHA's investigation, and as designee of the Secretary, MSHA granted or partially granted the petitions for modification below. Since the previous Federal Register notice (87 FR 10256) included petitions granted through December 31, 2021, listed below are petitions granted between January 1, 2022, and June 30, 2022. The granted petitions are shown in the order that MSHA received them.

• Docket Number: M-2020-018-C-AG.

FR Notice: 85 FR 58396 (9/18/2020).

Petitioner: Peabody Southeast Mining, LLC, 654 Camp Creek Portal Road, Oakman, Alabama 35579.

Mine: Shoal Creek Mine, MSHA ID No. 01-02901, located in Jefferson County, Alabama.

Regulation Affected: 30 CFR 75.500(d) (Permissible electric equipment).

• Docket Number: M-2020-019-C-AG.

FR Notice: 85 FR 58396 (9/18/2020).

Petitioner: Peabody Southeast Mining, LLC, 654 Camp Creek Portal Road, Oakman, Alabama 35579.

Mine: Shoal Creek Mine, MSHA ID No. 01-02901, located in Jefferson County, Alabama.

Regulation Affected: 30 CFR 75.507-1(a) (Electric equipment other than power-connection points; outby the last open crosscut; return air; permissibility requirements).

• Docket Number: M-2020-020-C-AG.

FR Notice: 85 FR 58396 (9/18/2020).

Petitioner: Peabody Southeast Mining, LLC, 654 Camp Creek Portal Road, Oakman, Alabama 35579.

Mine: Shoal Creek Mine, MSHA ID No. 01-02901, located in Jefferson County, Alabama.

Regulation Affected: 30 CFR 75.1002(a) (Installation of electric equipment and conductors; permissibility).

• Docket Number: M-2021-010-C.

FR Notice: 86 FR 28385 (5/26/2021).

Petitioner: Consol Pennsylvania Coal Company, LLC, 1000 Consol Energy Drive, Canonsburg, Pennsylvania, 15317.

Mine: Bailey Mine, MSHA ID No. 36-07230, located in Greene County, Pennsylvania.

Regulation Affected: 30 CFR 75.507-1(a) (Electric equipment other than power-connection points; outby the last open crosscut; return air; permissibility requirements).

• Docket Number: M-2021-011-C.

FR Notice: 86 FR 28385 (5/26/2021).

Petitioner: Consol Pennsylvania Coal Company, LLC, 1000 Consol Energy Drive, Canonsburg, Pennsylvania, 15317.

Mine: Bailey Mine, MSHA ID No. 36-07230, located in Greene County, Pennsylvania.

Regulation Affected: 30 CFR 75.500(d) (Permissible electric equipment).

• Docket Number: M-2021-012-C.

FR Notice: 86 FR 28385 (5/26/2021).

Petitioner: Consol Pennsylvania Coal Company, LLC, 1000 Consol Energy Drive, Canonsburg, Pennsylvania, 15317.

Mine: Bailey Mine, MSHA ID No. 36-07230, located in Greene County, Pennsylvania.

Regulation Affected: 30 CFR 75.1002(a) (Installation of electric equipment and conductors: Permissibility).

• Docket Number: M-2021-013-C.

FR Notice: 86 FR 28391 (5/26/2021).

Petitioner: Consol Pennsylvania Coal Company, LLC, 1000 Consol Energy Drive, Canonsburg, Pennsylvania, 15317.

Mine: Harvey Mine, MSHA ID No. 36-10045, located in Greene County, Pennsylvania.

Regulation Affected: 30 CFR 75.507-1(a) (Electric equipment other than power-connection points; outby the last open crosscut; return air; permissibility requirements).

• Docket Number: M-2021-014-C.

FR Notice: 86 FR 28391 (5/26/2021).

Petitioner: Consol Pennsylvania Coal Company, LLC, 1000 Consol Energy Drive, Canonsburg, Pennsylvania, ZIP 15317.

Mine: Harvey Mine, MSHA ID No. 36-10045, located in Greene County, Pennsylvania.

Regulation Affected: 30 CFR 75.500(d) (Permissible electric equipment).

• Docket Number: M-2021-015-C.

FR Notice: 86 FR 28391 (5/26/2021).

Petitioner: Consol Pennsylvania Coal Company, LLC, 1000 Consol Energy Drive, Canonsburg, Pennsylvania, ZIP 15317.

Mine: Harvey Mine, MSHA ID No. 36-10045, located in Greene County, Pennsylvania.

Regulation Affected: 30 CFR 75.1002(a) (Installation of electric equipment and conductors: Permissibility).

• Docket Number: M-2021-016-C.

FR Notice: 86 FR 28906 (05/28/2021).

Petitioner: Consol Pennsylvania Coal Company, LLC, 1000 Consol Energy Drive, Canonsburg, Pennsylvania, 15317.

Mine: Enlow Fork Mine, MSHA ID No. 36-07416, located in Washington County, Pennsylvania.

Regulation Affected: 30 CFR 75.507-1(a) (Electric equipment other than power-connection points; outby the last open crosscut; return air; permissibility requirements).

• Docket Number: M-2021-017-C.

FR Notice: 86 FR 28906 (05/28/2021).

Petitioner: Consol Pennsylvania Coal Company, LLC, 1000 Consol Energy Drive, Canonsburg, Pennsylvania, 15317.

Mine: Enlow Fork Mine, MSHA ID No. 36-07416, located in Washington County, Pennsylvania.

Regulation Affected: 30 CFR 75.500(d) (Permissible electric equipment).

• Docket Number: M-2021-018-C.

FR Notice: 86 FR 28906 (05/28/2021).

Petitioner: Consol Pennsylvania Coal Company, LLC, 1000 Consol Energy Drive, Canonsburg, Pennsylvania, 15317.

Mine: Enlow Fork Mine, MSHA ID No. 36-07416, located in Washington County, Pennsylvania.

Regulation Affected: 30 CFR 75.1002(a) (Installation of electric equipment and conductors: Permissibility).

• Docket Number: M-2021-019-C.

FR Notice: 86 FR 33773 (06/25/2021) and correction published in 86 FR 35538 (07/06/2021).

Petitioner: Consol Pennsylvania Coal Company, LLC, 1000 Consol Energy Drive, Canonsburg, Pennsylvania, 15317.

Mine: Itmann No. 5 Mine, MSHA ID No. 46-09569, located in Wyoming County, West Virginia.

Regulation Affected: 30 CFR 75.507-1(a) (Electric equipment other than power-connection points; outby the last open crosscut; return air; permissibility requirements).

• Docket Number: M-2021-020-C.

FR Notice: 86 FR 33773 (06/25/2021) and correction published in 86 FR 35538 (07/06/2021).

Petitioner: Consol Pennsylvania Coal Company, LLC, 1000 Consol Energy Drive, Canonsburg, Pennsylvania, 15317.

Mine: Itmann No. 5 Mine, MSHA ID No. 46-09569, located in Wyoming County, West Virginia.

Regulation Affected: 30 CFR 75.500(d) (Permissible electric equipment).

• Docket Number: M-2021-021-C.

FR Notice: 86 FR 33773 (06/25/2021) and correction published in 86 FR 35538 (07/06/2021).

Petitioner: Consol Pennsylvania Coal Company, LLC, 1000 Consol Energy Drive, Canonsburg, Pennsylvania, 15317.

Mine: Itmann No. 5 Mine, MSHA ID No. 46-09569, located in Wyoming County, West Virginia.

Regulation Affected: 30 CFR 75.1002(a) (Installation of electric equipment and conductors: permissibility).

• Docket Number: M-2021-022-C.

FR Notice: 86 FR 30984 (6/10/2021).

Petitioner: Buchanan Minerals, LLC, 1636 Honaker Branch Road, Oakwood, Virginia, 24639.

Mine: Buchanan No. 1 Mine, MSHA ID No. 44-04856, located in Buchanan County, Virginia.

Regulation Affected: 30 CFR 75.507-1(a) (Electric equipment other than power-connection points; outby the last open crosscut; return air; permissibility requirements).

• Docket Number: M-2021-023-C.

FR Notice: 86 FR 30984 (6/10/2021).

Petitioner: Buchanan Minerals, LLC, 1636 Honaker Branch Road, Oakwood, Virginia, 24639.

Mine: Buchanan No. 1 Mine, MSHA ID No. 44-04856, located in Buchanan County, Virginia.

Regulation Affected: 30 CFR 75.500(d) (Permissible electric equipment).

• Docket Number: M-2021-024-C.

FR Notice: 86 FR 30984 (6/10/2021).

Petitioner: Buchanan Minerals, LLC, 1636 Honaker Branch Road, Oakwood, Virginia, 24639.

Mine: Buchanan No. 1 Mine, MSHA ID No. 44-04856, located in Buchanan County, Virginia.

Regulation Affected: 30 CFR 75.1002(a) (Installation of electric equipment and conductors; permissibility).

• Docket Number: M-2021-030-C.

FR Notice: 86 FR 51679 (9/16/2021).

Petitioner: Rosebud Mining Company, 301 Market Street, Kittanning, Pennsylvania, 16201.

Mine: Heilwood Mine, MSHA ID No. 36-09407, located in Indiana County, Pennsylvania.

Regulation Affected: 30 CFR 75.1700 (Oil and gas wells).

• Docket Number: M-2021-045-C.

FR Notice: 87 FR 9644 (2/22/2022).

Petitioner: Signal Peak Energy, LLC, 100 Portal Drive, Roundup, Montana 59072.

Mine: Bull Mountains Mine No. 1, MSHA ID No. 24-01950, located in Musselshell County, Montana.

Regulation Affected: 30 CFR 75.1002(a) (Installation of electric equipment and conductors; permissibility).

• Docket Number: M-2022-002-C.

FR Notice: 87 FR 9644 (2/22/2022).

Petitioner: Signal Peak Energy, LLC, 100 Portal Drive, Roundup, Montana 59072.

Mine: Bull Mountains Mine No. 1, MSHA ID No. 24-01950, located in Musselshell County, Montana.

Regulation Affected: 30 CFR 75.507-1(a) (Electric equipment other than power-connection points; outby the last open crosscut; return air; permissibility requirements.)

Song-ae Aromie Noe,
Director, Office of Standards, Regulations, and Variances.

[FR Doc. 2022-15127 Filed 7-14-22; 8:45 am]

BILLING CODE 4520-43-P